ARCHITECTURAL AND TRANSPORTATION BARRIERS COMPLIANCE BOARD

36 CFR Part 1191

[Docket No. ATBCB-2024-0001]

RIN 3014-AA48

Americans With Disabilities Act and Architectural Barriers Act Accessibility Guidelines; EV Charging Stations

AGENCY: Architectural and Transportation Barriers Compliance Board.

ACTION: Notice of proposed rulemaking.

SUMMARY: The Architectural and Transportation Barriers Compliance Board (hereafter, “Access Board” or “Board”), is issuing this notice of proposed rulemaking to amend the accessibility guidelines for buildings and facilities covered by the Americans with Disabilities Act of 1990 (ADA) and the Architectural Barriers Act of 1968 (ABA) to specifically address the accessibility of Electric Vehicle Charging stations. This proposed rule provides specifications for the accessibility of EV charging stations, to include the EV charger (including physical and communication access), EV charging space, access aisles, and accessible routes.

DATES: Send comments on or before November 4, 2024.

ADDRESSES: You may submit comments, identified by docket number ATBCB-2024-0001, by any of the following methods:

• Federal eRulemaking Portal: http://www.regulations.gov. Follow the instructions for submitting comments.

• Email: docket@access-board.gov. Include docket number ATBCB-2024-0001 in the subject line of the message.

• Mail: Office of General Counsel, U.S. Access Board, 1331 F Street NW, Suite 1000, Washington, DC 20004-1111.

Instructions: All submissions must include the docket number (ATBCB-2023-0001) for this regulatory action. All comments received will be posted without change to http://www.regulations.gov, including any personal information provided.

Docket: For access to the docket to read background documents or comments received, go to https://www.regulations.gov/docket/ATBCB-2024-0001.

FOR FURTHER INFORMATION CONTACT: Accessibility Specialist Juliet Shoultz, (202) 272-0045, shoultz@access-board.gov; or Attorney Advisor Wendy Marshall, (202) 272-0043, marshall@access-board.gov.

SUPPLEMENTARY INFORMATION:

I. Introduction

The U.S. Access Board is proposing to revise and update its accessibility guidelines at 36 CFR 1191 for buildings and facilities covered by the Americans with Disabilities Act of 1990 (ADA) and the Architectural Barriers Act of 1968 (ABA) to address the accessibility of EV charging stations covered by the ADA, as well as EV charging stations owned or managed by or on behalf of the federal government. These guidelines cover new construction and alterations and serve as the basis for enforceable standards once adopted by other Federal agencies. The ADA applies to places of public accommodation, commercial facilities and State and local government facilities. The ABA covers facilities designed, built, altered with Federal funds or leased by Federal agencies. The purpose of this proposed rule is to set minimum guidelines to ensure that EV charging stations are readily accessible to and usable by persons with disabilities, including both physical access to the EV charging station and access to the interface to operate and pay for the charging session. As electric vehicles become more numerous, and with the current effort to increase the number of EV charging stations across the United States, it is imperative that these EV charging stations are accessible to and usable by people with disabilities.

Key accessible features addressed in this proposed rule for EV charging stations include: scoping (including minimum number of accessible EV charging spaces at each EV charging station); accessible routes; mobility features of the EV charger; operable parts; accessibility of the EV charging space; signage; and communication elements and features.

These guidelines, once adopted by the enforcement authorities, will require all new construction of EV charging stations to be fully compliant with the technical specifications for accessibility. Existing EV charging stations will need to be made compliant as they are altered in the future, to the maximum extent feasible if existing physical constraints prevent full compliance.

II. Legal Authority

The Americans with Disabilities Act (ADA) of 1990 charges the Access Board with developing and maintaining minimum guidelines to ensure the accessibility and usability of the built environment in new construction, alterations, and additions. See 42 U.S.C. 12101 et seq.; see also 29 U.S.C. 792(b)(3)(B) & (b)(10). The Access Board's ADA Accessibility Guidelines (ADAAG) address buildings and facilities covered under Title II of the ADA (state and local government facilities) and Title III of the ADA (places of public accommodation and commercial facilities). The ADAAG serve as the basis for legally enforceable accessibility standards issued by the Department of Justice (DOJ) and the Department of Transportation (DOT), the federal entities responsible for implementing and enforcing the ADA's non-discrimination provisions related to buildings and facilities in new construction, alterations, and additions.

The Access Board has a similar responsibility under the Architectural Barriers Act (ABA) of 1968, which requires that buildings and facilities designed, built, or altered with certain federal funds or leased by federal agencies be accessible to people with disabilities. See 42 U.S.C. 4151 et seq. The ABA charges the Access Board with developing and maintaining minimum guidelines for covered buildings and facilities. The Board's ABA Accessibility Guidelines (ABAAG) serve as the basis for enforceable standards issued by four standard-setting agencies: the Department of Defense, the General Services Administration, the Department of Housing and Urban Development, and the U.S. Postal Service.

Under both the ADA and the ABA, the Access Board maintains these accessibility guidelines, which includes updating the current requirements and addressing new technology as it is developed.

III. Need for Accessibility Guidelines for EV Charging Stations

Electric Vehicle (EV) charging stations are becoming commonplace with the rising production and use of electric and plug-in hybrid vehicles. According to the U.S. Department of Energy, there are nearly 50,000 public EV charging stations with almost 127,000 charging ports across the country. Additionally, on November 15, 2021, President Biden signed the Infrastructure Investment and Jobs Act (P. L. 117-58) (commonly referred to as the “Bipartisan Infrastructure Law”), which contains significant new funding for EV charging stations. Key new U.S. Department of Transportation (USDOT) programs established by this legislation include the National Electric Vehicle (NEVI) Formula Program ($5 billion) and the Discretionary Grant Program for Charging and Fueling Infrastructure ($2.5 billion). The law also makes the installation of EV charging infrastructure an eligible expense under the USDOT Surface Transportation Block Grant formula program.

The Bipartisan Infrastructure Law supports national goals of building a network of greater than 500,000 electric vehicle chargers in the U.S. and ensuring that EVs make up at least 50% of new car sales by 2030. See Fact Sheet: Biden-Harris Administration Announces New Standards and Major Progress for a Made-in-America National Network of Electric Vehicle Chargers, available at https://www.whitehouse.gov/briefing-room/statements-releases/2023/02/15/fact-sheet-biden-harris-administration-announces-new-standards-and-major-progress-for-a-made-in-america-national-network-of-electric-vehicle-chargers/ (last accessed, January 4, 2024). Additionally, California's Air Resources Board has approved the Advanced Clean Cars II rule, which requires that 100% of new cars and light trucks sold in California be zero-emission vehicles by 2035. Cal. Code Regs tit. 13 § 1900, et. seq. (2023).

With the new funding for the installation of EV charging stations, USDOT approached the Access Board to provide guidance on how to design and install accessible EV charging stations in accordance with the ADA and ABA. On July 21, 2022, the Access Board issued a technical assistance document, Design Recommendations for Accessible Electric Vehicle Charging Stations, to assist with the design and construction of accessible EV charging stations. This document laid out the existing ADA, ABA, and Section 508 Standards that applied to EV charging stations and also provided recommendations for areas not covered by the current Standards. In this rulemaking, the Board intends to specifically address EV charging stations throughout the ADA and ABA Guidelines for buildings and sites to provide clear specifications that will ensure that EV charging stations are accessible to and usable by individuals with disabilities.

The NEVI Standards and Requirements, which sets minimum standards and requirements for projects funded under the NEVI Formula Program and projects for the construction of publicly accessible EV chargers under certain statutory authority, specify that the ADA of 1990 and the implementing regulations apply to EV charging stations by prohibiting discrimination on the basis of disability by public and private entities. 23 CFR 680.118(c). The NEVI Standards and Requirements further specify that EV charging projects under NEVI and projects funded under Title 23 of the Code of Federal Regulations must comply with the applicable accessibility standards adopted by DOT into its ADA regulations (49 CFR part 37) in 2006, and by DOJ into its ADA regulations (28 CFR parts 35 and 36) in 2010. 23 CFR 680.118(c). Additionally, in the preamble to the NEVI final rule, FHWA recommended that EV charging stations be designed and constructed according to the Access Board's technical assistance document, Design Recommendations for Accessible Electric Vehicle Charging Stations, until the Board revises the ADAAG to specifically address EV charging stations. 88 FR 12724,12750 (March 30, 2023).

IV. Organization of Rule Text/Approach

The Access Board's ADA and ABA Accessibility Guidelines are promulgated in the Appendices of 36 CFR 1191. The regulation is broken down into scoping for the ADA (Appendix B), scoping for the ABA (Appendix C) and the technical provisions (Appendix D) which apply to both the ADA and the ABA. In this NPRM, the Board is proposing to add new provisions to address EV charging stations in both scoping sections for the ADA and the ABA, as well as in the technical provisions. The proposed provisions for the ADA and the ABA scoping sections are identical and will be discussed together below. Additionally, the Board will be proposing commensurate updates to Appendix A, which is the table of contents.

The proposed specifications will address the accessibility of EV charging stations, including: scoping (accessible routes, signs, and EV charging stations); EV chargers; EV charging spaces associated with the accessible EV charger; and communication elements and features.

The Board has looked to its existing accessible parking requirements as a starting point in determining scoping for and the design of accessible EV charging spaces; however, the specifications for EV charging spaces warrant different treatment as there are significant differences between parking spaces and EV charging spaces, particularly concerning the space required for individuals who use mobility devices to operate EV chargers independently. These differences are discussed more fully in the section-by-section analysis that follows, and in the discussion of 507.2 specifically.

V. Section-by-Section Analysis

In Chapter 1 and Chapter 2, the Board is proposing mirror provisions for the ADA and the ABA to provide scoping for the applicable technical provisions in Appendix D (Chapters 3 to 7).

A. Chapter 1: Application and Administration

105/F105 Referenced Standards

TIA 1083-B, Telephone Terminal Equipment Handset Magnetic Measurement Procedures and Performance requirements would be incorporated by reference at 709.7.3. This standard defines measurement procedures and performance requirements for the handset generated audio band magnetic noise of wire line telephones, including handsets which might be integrated into an EV Charger. This standard is consistent with current telecommunications industry practice.

106/F106 Definitions

This rule proposes to add seven new defined terms to 106 and F106 to address the application of the guidelines to EV chargers. These definitions are consistent with current industry standards and are consistent with the definitions used by the Department of Transportation in its recent National Electric Vehicle Infrastructure Standards and Requirements Final Rule, 88 FR12724 (Feb. 28, 2023) (codified at 23 CFR part 680). The proposed definitions include charging port, connector, electric vehicle, EV charger, EV supply equipment, EV charging station, and EV charging space.

B. Chapter 2: Scoping Requirements

206/F206 Accessible Routes

This rule proposes to add “accessible EV charging spaces” in both 206.2.1 and F206.2.1 to the list of areas from which an accessible route must be provided within a site to the accessible building or facility entrance they serve. This provision currently requires such an accessible route from the accessible parking spaces, accessible passenger loading zones, public streets and sidewalks, and public transportation stops. For EV charging stations built as standalone stations, more akin to a gas station, which also provides a facility to buy snacks, use the restroom or a lounge to relax in, there must be an accessible route from the accessible EV charging space to the facility.

The Board understands that many EV charging stations are being placed in existing parking lots. For example, an EV charging station that is put into the parking lot of a store would need to ensure that an accessible route is provided from the accessible EV charging space to the accessible entrance of the store. The Board notes that when EV charging stations are being placed in existing parking lots of malls, grocery stores, and department stores, they are often placed away from the entrance of the building, in the back or side of the parking lot due to necessary access to utilities and other constraints. Regardless of placement, an accessible route must be provided to ensure that the person with a disability whose vehicle is charging can access the building or facility, just like an individual without a disability. Even EV fast charging can take up to one hour for a total charge, increasing the likelihood that individuals will go into nearby facilities to shop, use the restroom or buy snacks. Individuals with disabilities must be able to get to the accessible entrance of these facilities, just as individuals without disabilities can get to an entrance.

While the Board is not proposing any changes to Section 206.2.2/F206.2.2 Accessible Route Within a Site, this provision will apply to EV charging stations and will require that at least one accessible route connect the accessible EV charging space with accessible buildings, facilities, elements and spaces that are on the same site.

216/F216 Signs

The Board is proposing to add a new provision to address signage for accessible EV charging spaces in both 216.14 and F216.14. This provision would require accessible EV charging spaces to be identified with a sign complying with 507.6. The Board proposes two exceptions to the sign requirement. The first allows for no signage indicating the accessible EV charging space, where a total of four or fewer EV charging spaces are provided on a site. This exception is the same as the exception in 216.5 accessible parking spaces and is intended to mitigate the impact of a reserved space on a small EV charging station. This proposal would still require an accessible EV charging space to be provided, but not require the space to be identified as reserved only for people with a disability in situations where only four or fewer EV charging spaces are provided on a site.

Question 1. The Board seeks input on the proposed number of EV charging spaces (four or fewer) which would exempt a site from reserving the accessible space for a person with a disability. Is there a reason to increase or decrease the proposed number of spaces?

The second exception, also the same as the second exception in 216.5 applicable to accessible parking spaces, applies only in residential facilities and permits identification of accessible EV charging spaces to be omitted if the space is assigned to a specific residential dwelling unit. If the space is already reserved for a specific unit, no reserved signage is necessary.

249/F249 EV Charging Stations

Section 249/F249 proposes the minimum number of EV chargers and EV charging spaces required to be accessible. This section addresses the accessibility of both EV chargers and the associated EV charging spaces. In 249.1/F249.1 General, the Board is proposing an exception from compliance for EV charging stations used exclusively for buses, trucks, other delivery vehicles, and law enforcement vehicles. This exception is akin to the exception in section 208 for accessible parking spaces and is provided to alleviate the requirement for accessible spaces at EV charging stations that only service these types of vehicles.

In section 249.2/F249.2 EV Chargers, the Board proposes to require all EV chargers to comply with proposed Section 506, which contains requirements regarding accessible communication features for all EV chargers, and requirements for accessible mobility features for those EV chargers associated with accessible EV charging spaces as required by 249.3/F249.3.

249.3/F249.3 EV Charging Spaces

The Board proposes to require a specified minimum number of accessible EV charging spaces on a sliding scale dependent on the number of EV charging spaces provided at each EV charging station as noted in Table 249.3.1/F249.3.1. The Board is also proposing that where there is more than one EV charging station on a site, each station shall be treated separately and the number of accessible EV charging spaces would be calculated based on the number of spaces at each EV charging station. For example, if a site had two EV charging stations, one with 10 EV charging spaces and the second with eight EV charging spaces, then each charging station would be required to have at least one accessible EV charging space, whereas if the site had only one EV charging station with 18 EV charging spaces, then only one accessible space would be required.

The Board also proposes to scope the EV charging spaces within an EV charging station separately if the EV charging station contains EV chargers of different levels. For example, if an EV charging station on a site contains a total of eight EV chargers, comprised of four Direct Current Fast Charging (DCFC) chargers and four Alternating Current (AC) Level 2 chargers, the number of required accessible spaces would be calculated separately for each type of charger. In this example, an accessible space would be required for the DCFC chargers, and an accessible space would be required for the AC Level 2 chargers. To ensure equitable Access to the available EV chargers, it is imperative that a person with a disability be provided with the same options as a person without a disability; that is, someone with mobility accessibility needs must have a choice of chargers at different charging levels if various types of chargers are provided. The level of charger may affect cost and the amount of time to charge the vehicle.

This provision also makes clear that accessible EV charging spaces will not count toward the minimum number of accessible car and van parking spaces required in a parking facility by 208.2. Parking spaces and EV charging spaces are scoped separately.

The proposed Table 249.3.1/F249.3.1 provides for a sliding scale of required accessible EV charging spaces similar to the requirements for accessible parking in 208.2/F208.2. However, the Board is also considering a different “use last” model to address the accessibility of EV charging spaces. A “use last” model would require more accessible EV charging spaces but would allow anyone to use them if all other spaces are occupied. This alternative proposal is discussed in Section VI, below.

The Board is also proposing separate scoping provisions for residential facilities. Where EV charging spaces are provided for each residential dwelling unit, section 249.3.1.2 and F249.3.1.2 would require that at least one accessible EV charging space be provided for each dwelling unit required to have mobility features complying with 809.4 through 809.9. Where EV charging spaces are not provided for each dwelling unit, EV charging spaces provided for residents, guests, employees or other nonresidents must be provided in accordance with Table 249.3.1.

249.3.2/F249.3.2 Location

The Board is proposing that accessible EV charging spaces that serve a particular building or facility shall be located on the shortest accessible route from the EV charging station to the accessible entrance, relative to other EV charging spaces at the same EV charging station. For example, if a shopping center has an EV charging station located at the back of its associated parking facility, then the accessible EV charging space should be located on the shortest accessible route to the accessible entrance of the shopping center in comparison to the other EV charging spaces. This proposed requirement does not require that the accessible EV charging space be located at the front of the parking facility next to the accessible parking.

As previously noted, the Board is aware that utility configurations and other site-specific factors related to the installation of EV chargers may at times dictate the location of the EV charging station within an established parking lot. This provision simply requires that the accessible EV charging space be the closest spot relative to other EV charging spaces. This provision also addresses the location of accessible EV charging spaces at a site where the primary function is EV charging. For example, an EV charging station located near amenities such as bathrooms, stores, or pedestrian routes to the public way, but not part of a particular facility, must also include accessible routes that connect the accessible EV charging space to each of these amenities.

The Board proposes an exception to the location requirement for EV Charging Spaces that would allow locating accessible EV charging spaces at different EV charging stations on a site, if substantially equivalent or greater accessibility is provided in terms of distance from an accessible entrance or entrances, fees, and user convenience. For example, if a site had two EV charging stations and each station was required to have one accessible EV charging space, it would be permissible to place both accessible EV charging spaces at the EV charging station that is closest to the accessible entrance as long as the fees to use the charger are the same or less, and the convenience to the user is the same or better.

C. Chapter 5: General Site and Building Elements

506 EV Charger

In 506 the Board proposes a new provision containing technical requirements for all EV chargers. In 506.1 the Board is proposing to require that all EV chargers, whether or not they are associated with an accessible EV charging space, provide accessible communication features in accordance with the proposed 709, EV Charger Communication Elements and Features, with the exception that 709.3.1 (visibility) will only apply to EV chargers associated with an accessible EV charging space. This universal requirement for communication access will ensure that a person with a disability who needs only communication access and is ineligible to use an accessible space and accompanying EV charger, such as someone who is deaf or hard of hearing, can use any available EV charger. Additionally, if accessible communication features were restricted to the EV chargers associated with mobility accessible EV charging spaces, the number of accessible EV charging spaces needed, would greatly increase, as the proposed number of accessible spaces only accounts for mobility needs. Therefore, the Board is proposing that all EV charger user interfaces provide accessible communication features in accordance with 709.

Question 2: The Board seeks public input on the approach of requiring 100 percent of EV chargers to have an accessible user interface.

Question 3: The Board seeks information on the costs of providing accessible user interfaces at EV charging stations, specifically the cost per EV charger, and how the cost per unit would be affected by the requirement that all EV chargers have accessible interfaces at an EV charger.

506.2 Mobility Features

In 506.2, the Board is proposing that EV chargers serving accessible EV charging spaces provide accessible mobility features for the EV charger. These provisions will ensure that persons with certain physical disabilities such as those that require the use of a mobility device (e.g., wheelchairs, powered scooters, or canes/crutches/walkers) are able to access and use the EV charger. For example, these provisions would allow a person using a wheelchair to approach the EV charger, reach the connector, remove it from the housing on the EV charger and then take it to the electric vehicle and plug it in. Additionally, if the EV charger has a user interface in order to initiate charging and/or to complete a transaction to pay for charging, theses provisions would allow a person using a mobility device to approach those operable parts, reach them, and access the screen in order to interact with it.

The Board is proposing to apply the existing technical specifications for clear floor or ground space, reach range, and operable parts to EV chargers. This includes 506.2.1, which proposes requiring a clear floor or ground space in front of the EV charger to allow a parallel approach to the EV charger, centered on the operable part. The clear floor or ground space shall be 30 inches minimum by 48 inches maximum, in accordance with Section 305. The Board is also proposing an exception when there are multiple operable parts, then the clear floor or ground space shall be centered on the EV charger.

In 506.2.2 Reach Range and Operation, the Board is proposing that the EV charger controls be provided in accordance with 308.3.1 unobstructed side reach. The unobstructed side reach provision requires that the operable part be located within a reach range to ensure that it is usable by a person using a mobility device. This provision requires that the high side reach be a maximum of 48 inches and the low side reach be a minimum of 15 inches above the ground. The Board is also proposing that the operable parts of an EV Charger comply with 309.4, which requires that controls are operable with one hand, without tight grasping, pinching, or twisting of the wrist and require no more than 5 pounds operating force.

An operable part is defined in Section 106.5 as “[a] component of an element used to insert or withdraw objects, or to activate, deactivate, or adjust the element.” This would include, among other things, the EV charging connector, any components that activate or deactivate the EV charger, and any screen provided with the charger. While 309.4 excepts gas pump nozzles, the Board is not currently proposing to provide the same exception for EV charging connectors. In the final rule for ADAAG, the Board explained that the exception was provided for gas pump nozzles because manufacturers indicated that safety requirements for their operation effectively precluded a maximum operating force of 5 pounds.” See 69 FR 44083, 44116 (July 23, 2004).

Additionally, the Board notes that gas nozzles are currently inaccessible to many individuals with disabilities, who rely on gas station attendants to provide refueling assistance. See ADA Business Brief: Assistance at Gas Stations, U.S. Department of Justice, available at https://archive.ada.gov/gasbrief.htm. Because EV charging stations typically do not have attendants to provide assistance, it is imperative that EV charging stations be sufficiently accessible to allow independent use by users with disabilities, including people who have limited or no hand dexterity, limb differences, or upper extremity amputations and use adaptive driving controls.

Question 4: Are there any safety concerns with requiring connectors to be operable in accordance with 309.4?

Question 5: Are there connectors currently on the market that comply with 309.4?

Question 6: Is it possible to activate a connector with less than 5 pounds of force?

Question 7: Are adapters for alternate connectors provided by the EV Charging station or do individuals bring adapters with them if the EV Charger connector is not compatible with their vehicle?

In 506.2.3, the Board is proposing to require that EV charging cables that exceed a weight of 5 pounds provide a cable management system. The Board is concerned with the overall weight of the EV charging cables and the ability of persons who use mobility devices to move the cable into place to connect it to their vehicles. The Board is proposing to require a cable management system, similar to what gas stations use, to assist someone with a disability in moving the cable to the appropriate place. The purpose of the requirement is to reduce the weight as much as possible to make it accessible to more users, regardless of whether the cable management system reduces the weight of the cable below five pounds. The cable management system also helps keep long cable slack off the accessible routes when stored or when connected to vehicles.

Question 8: Do any EV chargers currently on the market use a cable management system?

Question 9: Is there any other new technology the Board should consider besides a cable management system to ensure that the cable can be moved into place by a person with a disability?

Question 10: Should the Board consider requiring a different threshold for the cable management system instead of 5 pounds?

507 EV Charging Spaces

In 507 the Access Board proposes multiple provisions to address the size, access aisle, ground surface, vertical clearance, identification, and relationship to accessible routes for EV Charging Spaces. These provisions only apply to EV charging spaces that are required to provide accessibility pursuant to the scoping provisions in 249.3/F249.3. The purpose of these provisions is to provide mobility access to individuals with disabilities. While these provisions are similar to accessible parking, there are some key differences in that the space is not only used to park the vehicle, but also must ensure that the person can maneuver around the vehicle to the EV charger and plug in the vehicle to begin charging.

507.1 General

This provision clarifies that measurements shall be taken from the centerline of the markings. When the EV charging spaces or access aisle are not adjacent to another EV charging space, access aisle, or parking space, then the measurement may include the full width of the line defining the access aisle or EV charging space. These are the same requirements currently in place for accessible parking spaces and access aisles.

507.2 Size of EV Charging Space

EV charging spaces with mobility features must provide a vehicle space with a minimum width of 132 inches and minimum length of 240 inches and have an access aisle complying with 507.3. The Board is not proposing separate van and car spaces for EV chargers, as exists for accessible parking. See 36 CFR 1191, Appx. D, § 502. EV charging spaces require a larger space than an accessible parking space for a car because of the need to maneuver around the vehicle to get to the vehicle charging inlet location and to the EV charger. The Board believes the proposed size for the accessible EV charging space will be sufficient for cars and vans. For an accessible parking space, drivers can choose to back in or pull in forward in a manner that provides enough space to either deploy a ramp from their vehicle or to exit the vehicle and access and use a mobility device. With an EV, because vehicle charging inlets are not uniform (they can be on any side of the vehicle, including, the front or rear), the driver will have to pull in or back in, based on where the inlet is located and where the EV charger is located. Based on these considerations, the Board is proposing an accessible EV charging space that is larger than an accessible parking space. The proposed dimensions will provide sufficient space for a person using a mobility device to exit and maneuver around the vehicle, retrieve the EV connector, and plug the connector into the EV charging inlet. The specified minimum length of 240 inches is to provide for the additional maneuverability required to enable a person who uses a mobility device to use the EV charger independently.

The Board is proposing two exceptions to the size of the EV charging space. Both exceptions apply to pull-through EV charging stations to provide ease of use and an adjacent vehicular way. This would apply to a station set up like a gas station at which there are multiple EV charging stations where the EVs line up and wait their turn to charge and pull through after charging. These exceptions allow for spaces without an access aisle as long as they are 192 inches wide and provide for an adjacent vehicular way so vehicles can maneuver into and out of their charging spaces.

Additionally, the Board is considering adding an exception to the proposed dimensions of the EV charging space where inductive charging is used. Inductive charging occurs when the EV drives over and automatically connects to an in ground charger which prevents the driver from having to manually connect the EV charging cable to an inlet. Because this technology would negate the need for the driver to maneuver around the EV to the EV charger and then back to the EV to plug in the charging cable, the Board is considering providing an exception for compliance with the specified length of the EV charging space. The specified width would still be required to ensure that a user with a disability would be able to exit the vehicle and use the EV charger if needed to start or pay for the charge. The accessible route to any onsite amenities or public right-of-ways would also be required. The Board is seeking public comment on whether a required length of accessible EV charging spaces should be specified when inductive charging is available.

507.3 Access Aisle

The Access Board is proposing that two accessible EV charging spaces, or one accessible parking space and one accessible EV charging space, be permitted to share a common access aisle. The Board is proposing that access aisles serving accessible EV charging spaces be a minimum of 60 inches wide, extend the full length of the EV charging space they serve, and be marked so as to discourage parking in them. Access aisles may be placed on either side of the EV charging space, but cannot overlap the vehicular way. These provisions are taken directly from the requirements for access aisles at accessible parking spaces.

507.4 Floor or Ground Surfaces

The Board is proposing that EV charging spaces and access aisles comply with 302, which requires floor and ground surfaces to be stable, firm, and slip resistant. The Board is also proposing that accessible EV charging spaces and the adjoining access aisles be at the same level and that changes in level are not permitted. This is to ensure someone can transfer to a mobility device or deploy and traverse a ramp from the vehicle, and then traverse the EV charging space and access aisle safely.

This section contains two proposed exceptions. The first is that a slope not steeper than 1:48 be permitted. This exception is also provided for in 502.4 for parking spaces and allows for sufficient slope for drainage. The second exception is new and would permit a change in level created by in-ground connectors, so long as they are not located in the access aisle. The exceptions would permit an in-ground connector, such as a wireless connector, over which a vehicle is positioned in order to charge, to be installed within the EV charging space.

507.5 Vertical Clearance

The Board is proposing a vertical clearance requirement of 98 inches minimum for EV charging spaces, access aisles, and vehicular routes that service them. This is the same as the current requirements for vertical clearance of accessible parking in 502.5.

507.6 Identification

The Board is proposing that accessible EV charging spaces be identified with the International Symbol of Accessibility (ISA), complying with 703.7.2.1, and that the sign be 60 inches minimum above the ground surface measured to the bottom of the sign. If four or fewer EV charging spaces are located on a site, signage is not required, as proposed in 216.14 and discussed above. Identifying accessible EV charging spaces with the International Symbol of Accessibility is the “reserved model” in that those spaces are only available to individuals with a disability, and in practice means the individual would need to have a state issued disability placard. The Access Board is also proposing a “use last model” as an alternative to the “reserved model”, which is discussed below in Section VI.

507.7 Relationship to Accessible Routes

Finally, the Board is proposing that EV charging spaces and access aisles be designed so that while vehicles charging they do not obstruct the required clear width of adjacent accessible routes. For example, wheel stops are an effective way to prevent vehicle overhangs from reducing the clear width of an accessible route. This is the same as the current requirements for accessible parking spaces in 502.7.

D. Chapter 7: Communication Elements and Features

709 EV Charger Communication Elements and Features

Many EV chargers have an electronic user interface and are similar to smart parking meters or fare vending machines. EV chargers that provide an electronic user interface must be accessible to and usable by people with disabilities. Accessible communication features enable people who are deaf or hard of hearing, people with vision impairments (but who drive), and other people with disabilities to use an EV charger. As noted above, the Access Board is proposing that all EV chargers provide accessible communication features and comply with 709, except that 709.3.1 will apply only to EV chargers with mobility features complying with 506. As explained below, 709.3.1 ensures that display screens are located at a height to be visible to a person sitting in a mobility device. Many of the requirements for communication proposed in this NPRM are similar to the provisions in the Access Board's Revised Section 508 Standards. See 36 CFR 1194.1, App. A & C. The Access Board emphasizes that this proposed rule does not excuse full compliance with Section 508 of the Rehabilitation Act with respect to the communication features of any EV charging stations procured, maintained, or used by the federal government. The Revised 508 Standards are more stringent than the proposed communication features in 709, and compliance with the Revised 508 Standards would ensure compliance with section 709 of this proposed rule.

709.2 Volume

In 709.2 the Board proposes that all EV chargers that deliver sound provide volume control and output amplification. For private listening, the EV charger shall provide a mode of operation to control the volume. For non-private listening, the EV charger shall include incremental volume control with output amplification up to a level of at least 65 dB and a function shall be provided to automatically reset the volume to the default level after every use. The Board is proposing an exception so that EV chargers complying with 709.7.2 Volume Gain for EV Chargers with Two-Way Communication, need not comply with 709.2

709.3 Display Screen

The Board is proposing that display screens on EV chargers associated with accessible EV charging spaces be visible from a point located 40 inches above the center of the clear ground space in front of the EV Charger to ensure the display screen is visible from a seated position in a mobility device.

Additionally, the Board is proposing that all EV charger display screens provide at least one mode of characters displayed on the screen in a sans serif font, and that if the EV charger does not provide a screen enlargement feature, characters must be 3/16 inch high minimum based on the uppercase letter “I”. Additionally, characters must contrast with their background with either light characters on a dark background or dark characters on a light background.

709.4 Status Indicators

Where provided, status indicators shall be visually discernable and discernable by touch or sound. For example, if the EV charger makes a sound to indicate charging is completed, then it shall also provide a visual notification.

709.5 Color Coding

Where provided, color coding cannot be used as the only means of conveying information, indicating an action, prompting a response, or distinguishing a visual element. For example, a light that is illuminated red while the vehicle is charging and then turns green when the charge is complete cannot be the only means of informing the user that the charge is complete.

709.6 Audible Signals

Where provided, audible signals or cues shall not be the only means of conveying information, indicating an action, or prompting a response. Information conveyed with an audible signal must also be conveyed visually or with a tactile indication if appropriate.

709.7 EV Charger With Two-Way Communication

EV chargers that provide a method of two-way communication, such as the ability to call a help desk or video chat with a representative, shall provide an accessible means of communication for individuals who are deaf or hard of hearing. The EV charger must provide a method to increase volume of received audio. If the EV charger delivers output by a handset or other type of audio transducer that is typically held up to the ear, then the EV charge must reduce interference with hearing technologies; provide a means for effective magnetic wireless coupling; and conform to TIA-1083-B, incorporated by reference. TIA-1083-B is an industry consensus standard that describes in a technical engineering document what characteristics are needed for a telecoil in a handset speaker to be compatible with the “T-Switch” feature provided by modern hearing aids. Additional information about the incorporation by reference is detailed below in Section VII.

Finally, if real-time video communication is provided, the quality of the video must be sufficient to support communication using sign language.

709.8 Caption Processing Technologies

Where an EV charger displays or processes video with synchronized audio, captioning of the audio shall be provided. For example, if a video of instructions on how to use the EV charger is provided with accompanying audio, the audio must be captioned.

VI. Use Last Model for EV Charging Spaces

The Access Board is considering an alternative to the number of mobility accessible EV charging spaces currently proposed in this NPRM. The current proposal follows a traditional “reserved” approach, where the accessible spaces are restricted to only those persons with a disability and are identified by a sign with the International Symbol of Accessibility (ISA). The Board seeks public input on an alternative concept of “use last”. In the “use last model”, the accessible spaces would be marked with a sign with the ISA, but also the words “use last”. The space would not be reserved only for a person with physical disabilities. Instead, anyone could use the accessible charging space if it is the last charging space available. Under this alternative approach, the Board proposes that a greater number of accessible spaces per EV charging station be required since they would not be solely reserved for persons with certain physical disabilities.

A. Number of Accessible EV Charging Spaces for “Use Last” Alternative Approach

The table below provides the proposed minimum number of mobility accessible EV charging spaces under a “use last” model. Instead of one accessible space for the first 25 EV charging spaces, the requirement would be two accessible spaces for two to 25 EV charging spaces at a charging station. This increase would compensate for the fact that the space could be used by a person without a disability.

Table 249.3.1—EV Charging Spaces
Total number of EV charging spaces provided at an EV charging station | Minimum number of required accessible EV charging spaces
1 | 1.
2 to 25 | 2.
26 to 50 | 4.
51 and over | 4, plus one for each 50, or fraction thereof over 50.

As noted above in the discussion of sections 216/F216, under the proposed “reserved” model, identification of an accessible EV charging space would not be required if four or fewer EV charging spaces are provided at an EV charging station. The Board welcomes comment on the appropriate threshold of total number of EV charging spaces that would trigger a requirement for signage at accessible EV charging spaces under a “use last” model.

B. Alternative 507.6 Identification

The Board is considering an alternative 507.6, which would require the designation “use last” and the ISA symbol on the sign marking the accessible space. All other requirements of this section would remain the same.

C. Analysis of the “Use Last” Alternative

The Board first introduced the idea of a “use last” model in the technical assistance document it issued in August 2022. Design Recommendations for Accessible Electric Vehicle Charging Stations, available at https://www.access-board.gov/ta/tad/ev/. EV charging stations can be expensive to install, and the Board understands that each space provides potential revenue for the station operator, unless the station is provided as a free amenity. The Board therefore acknowledges efficiencies in allowing an unoccupied accessible EV charging space to be used by a person without a disability, if all other EV charging spaces are occupied at a particular EV charging station.

However, the Board does have significant reservations about the “use last” approach, and thus proposes it as an alternative approach for consideration and public comment. The Board is concerned that enforcement will be difficult, if not impossible. Suppose, for example, that a person with a physical disability who needs an accessible EV charging space made a complaint that someone without a disability was occupying the accessible space, even though there were other spaces available. In some instances, it may not be possible to determine whether all other spaces were occupied at the time the non-disabled driver arrived at the EV charging station. The Board is also concerned that individuals without disabilities will choose to use the accessible space because it is a larger space, even when non-accessible spaces are available.

Further, as “use last” is a new concept, it may lead to confusion for drivers and require public education to implement. For example, individuals without disabilities may not understand that they are permitted to use the “use last” space, if no other space is available, because traditionally a sign with the ISA indicates that the space is reserved. The Board seeks public comment, especially from any jurisdiction or EV charging station operator that is currently using the “use last” approach. The Board is particularly interested on information regarding enforcement and wait times for individuals with disabilities attempting to use the accessible spaces. The Board also seeks input from individuals with disabilities who may have used a “use last” EV charging space, as well as any experiences with “reserved” accessible EV charging spaces and how often they are available for use.

In the preliminary regulatory assessment (PRIA), discussed below, the Board has analyzed both the costs and benefits of this alternative “use last” approach. The alternative would require more accessible spaces per EV charging stations and therefore be more costly than the “reserved” model. However, as discussed in the PRIA, the magnitude of the difference is quite small for stations outside of California, in that the “use last” approach costs at most $113 more than the “reserved” model for the most common size of EV charging stations (one to 25 charging spaces), which currently accounts for 99% of EV charging stations. California is the only state that has adopted accessible EV charging standards, and so while the cost of both models are lower in California than the costs for the rest of the United States, the “use last” alternative does increase the costs for California from $0 to $1,592.49 per charging station.

While the costs increase slightly with the “use last” alternative, the PRIA notes that the “use last” model is expected to provide better outcomes for all users (with disabilities and without disabilities.) Owing to the greater number of spaces complying with accessibility requirements, and the opportunity for non-disabled people to use those chargers if unoccupied, “[t]he [“use last”] alternative lowers the probability that a user would need to wait for an appropriate EV charging space to become available because it increases the capacity of the EV charging station for both users with disabilities and users without disabilities compared to the [“reserved model”].” PRIA at 45 available at https://www.regulations.gov/docket/ATBCB-2024-0001. The basis of the benefits analysis is a model of EV charging station queuing which depicts arrivals at DCFC charging stations in terms of average time interval between vehicle arrivals (measured in minutes). The model calculates the probability that an arrival will have to wait and further considers the average wait times for all users, users who need an accessible space and users who do not.

The benefits analysis also takes into consideration the difficulty of enforcement and includes scenarios where 20 percent and 50 percent of users without disability placards were non-compliant with the “use-last” approach (meaning the user was not a person with a disability and parked in an accessible spot when other non-accessible spots were available). The results show that even if 50 percent of users without disability placards use the accessible spaces inappropriately, the “use last” alternative results in lower probabilities of people with disabilities waiting for accessible spaces than under the “reserved” model because the number of required accessible spaces is greater. The Board seeks public input on this alternative “use last” model, including comments on the PRIA.

VII. Availability of Materials Incorporated by Reference

As required by the Office of the Federal Register, the Board is providing this information to the public about the proposed material to be incorporated by reference in Appendix B, 105.2 and Appendix C, F105.2. In addition to the information provided below relating to public availability, a copy of this reference standard is available for inspection at the Access Board's office, 1331 F Street NW, Suite 1000, Washington, DC 20004.

TIA 1083-B Telephone Terminal Equipment Handset Magnetic Measurement Procedures and Performance Requirements (2015). This standard defines measurement procedures and performance requirements for the handset generated audio band magnetic noise of wireline telephones. This standard also addresses magnetic interference issues not covered by 47 CFR part 68. This standard can be used to evaluate devices with analog interfaces and digital interfaces that provide narrowband and wideband transmission. Availability: Copies of the standard, which is published by the Telecommunications Industry Association (TIA), may be obtained from the TIA Standards Store, 1320 North Courthouse Road, Suite 890, Arlington, VA 22201. It is available for purchase on the TIA Standards Store (https://store.accuristech.com/tia). The cost is $123 for a secured PDF. TIA has agreed to make a read only version of this standard available for free to the public during the comment period of this NPRM. To obtain access to the read-only version, members of the public should email TIA at standards@tiaonline.org and request access to TIA-1083-B.

VIII. Regulatory Process Matters

A. Regulatory Planning and Review (Executive Orders 12866 and 13563)

Consistent with the obligation that federal agencies under Executive Orders 12866 and 13563 propose and adopt regulations only upon a reasoned determination that benefits justify costs, this proposed rule has been evaluated from a benefit-cost perspective in the preliminary regulatory impact assessment (PRIA). The USDOT Volpe Center prepared this PRIA on behalf of the Access Board. The PRIA is available on the Access Board's website at www.access-board.gov and in the regulatory docket at www.regulations.gov. The PRIA estimates the annual costs of this proposed rule and describes the significant benefits for people with disabilities. The benefits of regulations that ensure civil rights cannot be fully quantified and monetized; the Board concludes that consistent with E.O. 13563, the benefits (quantitative and qualitative) justify the costs.

Pursuant to E.O. 13563, the Volpe Center has used “the best available techniques to quantify anticipated present and future benefits and costs as accurately as possible”; however, the proposed rule and the underlying statutes create many important benefits that, in the words of E.O. 13563, stem from “values that are difficult or impossible to quantify.” In addition to considering the proposed rule's quantitative effects, the Board has considered the proposed rule's qualitative effects.

Executive Order 13563 states that in making a reasoned determination that a regulation's benefits justify its costs, “each agency may consider and (discuss qualitatively) values that are difficult or impossible to quantify, including equity, human dignity, fairness, and distributive impacts.” The proposed guidelines promote important societal values that are difficult or impossible to quantify. When enacting the ADA, Congress found “the discriminatory effects of architectural, transportation, and communication barriers” to be a continuing problem that “denies people with disabilities the opportunity to compete on an equal basis and to pursue those opportunities for which our free society is justifiably famous, and costs the United States billions of dollars in unnecessary expenses resulting from dependency and nonproductivity.” 42 U.S.C. 12101(a)(5) and (8).

Congress declared that “the Nation's proper goals regarding individuals with disabilities are to assure equality of opportunity, full participation, independent living, and economic self-sufficiency.” 42 U.S.C. 12101(a)(7). This proposed rule promotes the goals declared by Congress by eliminating the discriminatory effects of architectural, transportation, and communication barriers in the design and construction of electric vehicle charging stations.

In the PRIA, the Volpe Center explains that the benefits of the proposed rule relate to preserving equal access to public facilities and facilities designed, built, or altered with federal dollars or leased by federal agencies for people with disabilities. The mobility features of the accessible EV charging spaces and EV chargers would ensure they are usable by people with physical disabilities including those who use mobility devices such as wheelchairs, powered scooters, and canes/crutches/walkers. The requirements related to operable parts would ensure that EV chargers are usable by people who use mobility devices and by people who have difficulty, pinching, twisting, or grasping due to a disability. The requirements related to communication features would ensure that people with difficulty hearing, difficulty seeing (including but not limited to small print), or color-blindness can use EV chargers.

The PRIA describes the methodology used to quantify compliance costs and associated benefits, including data sources, key input values and assumptions, calculation methods, information on potential limitations and sources of uncertainty, and areas where the Board is requesting additional information to inform the final regulatory impact assessment.

In summary, the PRIA explains that the quantified costs of the proposed rule over the seven-year analysis period of 2024 to 2030 are estimated to be $831.8 million when discounted at 3 percent and $683.3 million when discounted at 7 percent. The costs are based on the forecast of the number of EV charging stations that will be built in the United States by 2030. Some costs could not be quantified with the available information and the Access Board requests information from the public to improve those cost estimates. The cost of the rule is at most $2,225 per charging station in most of the United States for the most common sizes of charging stations. Most of the cost is associated with the extra land or space required to provide a wider accessible charging space and an adjacent access aisle. The cost of the rule is a small percentage of the baseline cost of the rule for large Level 2 charging stations and for DC Fast Charging stations. In California, the cost the proposed rule is essentially zero for the most common sizes of charging stations because California has already enacted accessibility requirements for EV charging stations. The total cost of the rule is largely driven by the high number of public EV charging stations that are expected to be built in the near future.

Summary of Costs of Proposed Rule 2024-2030
[$ millions]
Proposed rule requirement | Total cost | Total cost 3% discount | Total cost 7% discount | Annualized cost 3% discount | Annualized cost 7% discount
Mobility Features of Accessible Spaces | $972.0 | $831.8 | $683.3 | $133.5 | $126.8.
Mobility Features of Chargers | Not Quantified | Not Quantified | Not Quantified | Not Quantified | Not Quantified.
Communication Elements | Not Quantified | Not Quantified | Not Quantified | Not Quantified | Not Quantified.
Total | $972.0 | $831.8 | $683.3 | $133.5 | $126.8.

The PRIA also considers a regulatory alternative related to the number of accessible EV charging spaces with mobility features that would be required at a charging station. Whereas the proposed rule requires one accessible charging space reserved for people with disabilities at charging stations with 25 or fewer charging spaces, the alternative would require two accessible charging spaces signed as “use last,” meaning that people without disabilities could use them if the non-accessible charging spaces were all occupied.

In most of the country, the extra cost of the “use last” alternative compared to the “reserved” model is minor, just over $100 per charging station. However, in California, the additional cost of the “use last” alternative compared to the “reserved” model is more substantial. California accounts for just over 30 percent of charging stations, so at a national level, the “use last” alternative is estimated to cost 28 percent more than the “reserved” model, as shown below.

Comparison of Costs of Alternative to Proposed Rule
Proposed rule: annualized cost @7% | Alternative: annualized cost @7% | Increase in costs compared to proposed rule | Percent cost increase compared to proposed rule
$136,293,270 | $126,780,388 | $35,272,652 | 27.8%

The alternative would cost more than the “reserved” model, but, because it results in more accessible charging spaces being provided, it improves outcomes for disabled users of EV charging stations. A simulation model of queuing behavior at DC Fast Charging stations developed for this PRIA finds that under a range of scenarios, the alternative would substantially decrease the probability that a disabled user would need to wait at a charging station for an accessible charging space to become available, compared to the proposed rule. The PRIA also explores scenarios where 20 percent or 50 percent of non-disabled users do not comply with the ”use last” concept and instead use the accessible charging spaces even when non-accessible spaces are available. Even at fairly high levels of non-compliance, the “use last” concept is expected to provide better outcomes for users with mobility disabilities.

B. Regulatory Flexibility Act

An initial regulatory flexibility analysis (IRFA) has been prepared to evaluate the proposed rule under the Regulatory Flexibility Act. The USDOT Volpe Center has prepared this IRFA on behalf of the Access Board. The IRFA is available on the Access Board's website at www.access-board.gov and in the regulatory docket at www.regulations.gov.

The Regulatory Flexibility Act of 1980 (RFA), as amended, requires agencies to conduct a separate analysis of the economic impact of rules on small entities. The RFA requires agencies to take small entities' concerns into account when developing, writing, publicizing, promulgating, and enforcing regulations. To this end, the RFA requires agencies to detail how they have met these concerns by including an initial and later a final regulatory flexibility analysis.

As required by the RFA, this analysis includes:

• A description of the reasons the agency is considering the action

• A succinct statement of the objectives and legal basis of the rule

• A description and estimate of the number of small entities to which the rule will apply (or an explanation of why no such estimate is available)

• A description of the compliance requirements of the rule and their costs

• A description of relevant Federal rules, if any, that may duplicate, overlap, or conflict with the proposed rule

• A description of any significant alternatives to the proposed rule that would accomplish the stated objectives of the rule while minimizing any significant economic impact of the proposed rule on small entities

The IRFA evaluates the proposed accessibility standards for EV chargers and EV charging stations at places covered under this proposed rule, including places of public accommodation and commercial facilities under the ADA and buildings and facilities that were designed, built, or altered with federal dollars or leased by federal agencies under the ABA. The analysis assesses the effects of the proposed rule on four categories of entities that have roles in providing EV charging stations: EVSE manufacturers, EV charging station operators, non-governmental entities that provide EV charging stations as an amenity to patrons and/or employees, and governmental jurisdictions that provide EV charging stations as a service to the general public.

The proposed rule is expected to have non-significant economic impacts on small EVSE manufacturers, small non-governmental entities that provide EV charging stations to their patrons and/or employees, and small governmental entities that provide EV charging stations to the general public. The proposed rule is expected to have non-significant economic impacts on small EV charging station operators who provide DC Fast Charging (DCFC) charging stations. However, the rule may have significant economic impacts on small EV charging station operators who provide Level 2 charging stations.

The Access Board does not anticipate any meaningful alternatives to minimizing the significant economic impacts on small entities. The alternative described above and analyzed in the PRIA results in slightly higher upfront costs (although it may reduce expected wait times for EV charging station users).

C. Executive Order 14096

E.O. 14096 set the goal of environmental justice for all, including ensuring “equitable access to a healthy, sustainable, and resilient environment in which to live, play, work, learn, grow, worship, and engage in cultural and subsistence practices.” See E.O. 14096, 88 FR 25,253 (Apr. 26, 2023). The agency has considered environmental justice and believes this proposed rule will advance accessibility and improve the quality of life for communities with environmental justice concerns, and thus advance this goal. As part of public comment on this proposal, the agency welcomes any additional input or engagement from the public, including communities with environmental justice concerns, to inform this rulemaking.

D. Federalism (Executive Order 13132)

The Access Board has evaluated this notice of proposed rulemaking in accordance with the principles and criteria set forth in Executive Order 13132. We have determined that this action will not have a substantial direct effect on the States, on the relationship between the Federal Government and the States, or on the distribution of power and responsibilities among the various levels of government, and, therefore, does not have Federalism implications.

The proposed rule adheres to the fundamental federalism principles and policy making criteria in Executive Order 13132. The portion of this rule applicable to state and local governments is issued under the authority of the Americans with Disabilities Act, civil rights legislation that was enacted by Congress pursuant to its authority to enforce the Fourteenth Amendment to the U.S. Constitution and to regulate commerce. The Americans with Disabilities Act was enacted “to provide a clear and comprehensive national mandate for the elimination of discrimination against individuals with disabilities.” 42 U.S.C. 12101(b)(1). The Americans with Disabilities Act recognizes the authority of State and local governments to enact and enforce laws that “provide[] for greater or equal protection for the rights of individuals with disabilities than are afforded by this chapter.” 42 U.S.C. 12201(b).

E. Unfunded Mandates Reform Act

The Unfunded Mandates Reform Act does not apply to legislative or regulatory provisions that establish or enforce any “statutory rights that prohibit discrimination on the basis of race, color, religion, sex, national origin, age, handicap, or disability.” 2 U.S.C. 658a. Accordingly, it does not apply to this rulemaking.

F. Paperwork Reduction Act

Under the Paperwork Reduction Act (PRA), federal agencies are generally prohibited from conducting or sponsoring a “collection of information: as defined by the PRA, absent OMB approval.” See 44 U.S.C. 3507 et seq. The proposed revisions and updates to the ADA and ABA Accessibility Guidelines do not impose any new or revised collections of information within the meaning of the PRA.

G. Congressional Review Act

To the extent this rule is subject to the Congressional Review Act, the Access Board will comply with its requirements by submitting the final rule to Congress and the Government Accountability Office.

List of Subjects in 36 CFR Part 1191

Buildings and facilities, Civil rights, Federal buildings and facilities, Incorporation by reference, Individuals with disabilities, Parking, and Transportation.

For the reasons stated in the preamble, and under the authority of 29 U.S.C. 792(b)(3) and 42 U.S.C. 12204, the Board proposes to amend 36 CFR part 1191 as follows:

PART 1191—Americans With Disabilities Act (ADA) Accessibility Guidelines for Buildings and Facilities; Architectural Barriers Act (ABA) Accessibility Guidelines

1. The authority citation for part 1191 continues to read as follows:

Authority: 29 U.S.C. 792(b)(3); 42 U.S.C. 12204.

2. Amend appendix A by:

a. Revising the heading for ADA Chapter 1;

b. Revising the ADA Chapter 2 and adding, in numerical order, an entry for 249;

c. Revising the heading for ABA Chapter 1;

d. Revising the heading for ABA Chapter 2 and adding, in alphanumerical order, and entry for 249;

e. Revising the headings for Chapter 3 and Chapter 4;

f. Revising the heading for Chapter 5 and adding, in numerical order, entries for 506 and 507;

g. Revising the heading for Chapter 6;

h. Revising the heading for Chapter 7 and adding, in numerical order, an entry for 709;

i. Revising the headings for Chapter 8, Chapter 9, and Chapter 10.

The revisions and additions read as follows:

Appendix A to Part 1191—Table of Contents

ADA Chapter 1: Application and Administration (Appendix B)

* * * * *

ADA Chapter 2: Scoping Requirements (Appendix B)

* * * * *

244-248 [Reserved]

249 EV Charging Stations

ABA Chapter 1: Application and Administration (Appendix C)

* * * * *

ABA Chapter 2: Scoping Requirements (Appendix C)

* * * * *

F249 EV Charging Stations

Chapter 3: Building Blocks (Appendix D)

* * * * *

Chapter 4: Accessible Routes (Appendix D)

* * * * *

Chapter 5: General Site and Building Elements (Appendix D)

* * * * *

506 EV Chargers

507 EV Charging Spaces

Chapter 6: Plumbing Elements and Facilities (Appendix D)

* * * * *

Chapter 7: Communication Elements and Features (Appendix D)

* * * * *

709 EV Charger Communication Elements and Features

Chapter 8: Special Rooms, Spaces, and Elements (Appendix D)

* * * * *

Chapter 9: Built-In Elements (Appendix D)

* * * * *

Chapter 10: Recreation Facilities (Appendix D)

* * * * *

3. In appendix B,

a. Amend ADA Chapter 1 by:

i. Revising section 105.1 and the introductory text of section 105.2;

ii. Adding section 105.2.6; and

iii. In section 106.5, adding definitions for ”Charging port“, “Connector”, “Electric vehicle”, “EV charger”, EV supply equipment”, EV charging station”, EV charging space”;

b. Amend ADA Chapter 2 by:

i. Revising section 206.2.1;

ii. Adding section 216.13 as “reserved”;

iii. Adding section 216.14;

iv. Adding section 249; and

v. Removing the text “Chapter 1)” everywhere it appears and adding, in its place, the text “section 105)”.

The revisions and additions read as follows:

Appendix B to Part 1191—Americans With Disabilities Act: Scoping ADA Chapter 1: Application and Administration

* * * * *

105.1 General. The standards listed in 105.2 of this appendix B are incorporated by reference into this appendix B and appendix D to this part with the approval of the Director of the Federal Register under 5 U.S.C. 552(a) and 1 CFR part 51. All approved incorporation by reference (IBR) material is available at the U.S. Access Board and at the National Archives and Records Administration (NARA). Contact U.S. Access Board at: 1331 F Street NW, Suite 1000, Washington, DC 20004; (202) 272-0080, info@access-board.gov. For information on the availability of this material at NARA, visit www.archives.gov/federal-register/cfr/ibr-locations or email fr.inspection@nara.gov. The material may be obtained from the sources in section 105.2.

105.2 Reference Standards. Referenced standards. The specific edition of the standards listed in this section are referenced elsewhere in this appendix B and appendix D to this part. Where differences occur between these appendices and the referenced standards, these appendices apply.

* * * * *

105.2.6 TIA -1083-B.

Copies of the referenced standards may be obtained from the Telecommunications Industry Association (TIA), 1320 North Courthouse Road, Suite 890, Arlington, VA 22201; (800) 332-6077; standards@tiaonline.org; https://store.accuristech.com/tia. TIA-1083-B, Telecommunications — Communications Products—Handset Magnetic Measurement Procedures and Performance Requirements, October 2015 (see 709.7.2.2).

* * * * *

106.5 Defined Terms.

* * * * *

Charging port. The system within an electric vehicle (EV) charger that charges one (1) EV. A charging port may have multiple connectors, but it can only provide power to charge one EV through one connector at a time.

* * * * *

Connector. The device that attaches an EV to a charging port in order to transfer electricity.

* * * * *

Electric Vehicle (EV). A motor vehicle that is either partially or fully powered on electric power received from an external power source. definition does not include golf carts, electric bicycles, or other micromobility devices.

* * * * *

EV Charger. A device with one or more charging ports and connectors for charging EVs. An EV charger is also called electric vehicle supply equipment (EVSE).

EV Supply Equipment. See EV Charger.

EV Charging Station. The area in the immediate vicinity of a group of EV chargers including the EV chargers, supporting equipment, EV charging space adjacent to the EV chargers, and lanes for vehicle ingress and egress. An EV charging station may be only part of the property on which it is located. An EV charging station may include only one EV charging space.

EV Charging Space. A space to park an EV while charging. An EV charging space may be a marked or an unmarked area adjacent to an EV charger.

* * * * *

ADA Chapter 2: Scoping Requirements

* * * * *

206.2.1 Site Arrival Points. At least one accessible route shall be provided within the site from accessible parking spaces, accessible EV charging spaces, and accessible passenger loading zones; public streets and sidewalks; and public transportation stops to the accessible building or facility entrance they serve.

Exceptions: 1. Where exceptions for alterations to qualified historic buildings or facilities are permitted by 202.5, no more than one accessible route from a site arrival point to an accessible entrance shall be required.

2. An accessible route shall not be required between site arrival points and the building or facility entrance if the only means of access between them is a vehicular way not providing pedestrian access.

* * * * *

216.13 [RESERVED]

216.14 EV Charging Spaces. EV charging spaces complying with 507 shall be identified by signs complying with 507.6.

Exceptions: 1. Where a total of four or fewer EV charging spaces, including accessible EV charging spaces, are provided on a site, identification of accessible EV charging spaces shall not be required.

2. In residential facilities, where EV charging spaces are assigned to specific residential dwelling units, identification of accessible EV charging spaces shall not be required.

* * * * *

244 -248 [RESERVED]

249 EV Charging Stations.

249.1 General. Where EV charging stations are provided, EV chargers and EV charging spaces shall be provided in accordance with 249.

Exception: EV charging stations used exclusively for buses, trucks, other delivery vehicles, and law enforcement vehicles, shall not be required to comply with this section 249.

249.2 EV Chargers. EV Chargers shall comply with 506.

249.3 EV Charging Spaces.

249.3.1 Minimum Number. EV charging spaces complying with 507 shall be provided in accordance with Table 249.3.1 except as required by 249.3.1.1. Where there is more than one EV charging station on a site, the number of EV charging spaces complying with 507 shall be calculated according to the number of EV charging spaces at each charging station. Where there is more than one level of EV charger at an EV charging station, the number of EV charging spaces complying with 507 shall be based on the number of spaces available for each level. Accessible EV charging spaces shall not count toward the minimum number of accessible car and van parking spaces required in a parking facility by 208.2.

Table 249.3.1—EV Charging Spaces
Total number of EV charging spaces provided at an EV charging station | Minimum number of required accessible EV charging spaces
1 to 25 | 1.
26 to 50 | 2.
51 to 75 | 3.
76 to 100 | 4.
101 to 150 | 5.
151 to 00 | 6.
201 to 300 | 7.
301 to 400 | 8.
401 to 500 | 9.
501 to 1000 | 2 percent of total.
1001 and over | 20, plus 1 for each 100, or fraction thereof, over 1000.

249.3.1.2 Residential Facilities. EV charging spaces serving residential facilities shall comply with 249.3.1.2.

249.3.1.2.1 EV Charging Spaces for Residents. Where at least one EV charging space is provided for each residential dwelling unit, at least one EV charging space complying with 507 shall be provided for each residential dwelling unit with mobility features required to comply with 809.2 through 809.4.

249.3.1.2.2 Shared-use EV Charging Spaces for Residents. Where the number of EV charging spaces is fewer than the number of residential dwelling units, then the number of EV charging spaces complying with 507 shall be provided in accordance with Table 249.3.1.

249.3.1.2.3 EV Charging Spaces for Guests, Employees, and Other Non-Residents. Where EV charging spaces are provided for persons other than residents, EV charging spaces complying with 507 shall be provided in accordance with Table 249.3.1.

249.3.2 Location. EV charging spaces shall comply with 249.3.2.

249.3.2.1 General. EV charging spaces complying with 507 that serve a particular building or facility shall be located on the shortest accessible route from the EV charging spaces to an entrance complying with 206.4 relative to other charging spaces at the same EV charging station. Sites with EV charging stations as the primary function shall include accessible routes that connect EV charging spaces complying with 507 to any amenities on the site and, if provided, pedestrian routes in the public way.

Exception: EV Charging spaces complying with 507 shall be permitted to be located at different EV charging stations if substantially equivalent or greater accessibility is provided in terms of distance from an accessible entrance, fees, or user convenience.

249.3.2.2 Residential Facilities. In residential facilities containing residential dwelling units required to provide mobility features complying with 809.2 through 809.4, EV charging spaces provided in accordance with 249.3.1.2.1 shall be located on the shortest accessible route to the residential dwelling unit entrance they serve relative to other EV charging spaces at the same charging station. EV charging spaces provided in accordance with 249.3.1.2.2 shall be dispersed throughout all types of EV charging stations (e.g., covered, garage, charging level) provided for the residential dwelling units.

Exception: EV charging spaces provided in accordance with 249.3.1.2.2 shall not be required to be dispersed throughout all types of EV charging stations if substantially equivalent or greater accessibility is provided in terms of distance from an accessible entrance, charging level, fees, and user convenience.

4. In appendix C,

a. Amend ABA Chapter 1 by:

i. Revising section F105.1 and the introductory text of F105.2;

ii. Adding section F105.2.6;

iii. In section F106.5 adding definitions for “Charging port“, “Connector”, “Electric vehicle”, “EV charger”, EV supply equipment”, EV charging station”, EV charging space”; and

b. Amend ABA Chapter 2 by:

i. Revising section F206.2.1;

ii. Adding section F216.14; and

iii. Adding section F249;

iv. Removing the text “Chapter 1)” everywhere it appears and adding, in its place, the text “F105)”.

The revisions and additions read as follows:

Appendix C to Part 1191—Architectural Barriers Act: Scoping

ABA Chapter 1: Application and Administration

* * * * *

F105.1 General. The standards listed in F105.2 of this appendix C are incorporated by reference into this appendix C and appendix D to this part with the approval of the Director of the Federal Register under 5 U.S.C. 552(a) and 1 CFR part 51. All approved incorporation by reference (IBR) material is available at the U.S. Access Board and at the National Archives and Records Administration (NARA). Contact USAB at: 1331 F Street NW, Suite 1000, Washington, DC 20004; (202) 272-0080; or info@access-board.gov. For information on the availability of this material at NARA, visit www.archives.gov/federal-register/cfr/ibr-locations or email fr.inspection@nara.gov. The material may be obtained from the sources in section F105.2.

F105.2 Reference Standards. Referenced standards. The specific edition of the standards listed in this section are referenced elsewhere in this appendix C and appendix D to this part. Where differences occur between these appendices and the referenced standards, these appendices apply.

* * * * *

F105.2.6 TIA-1083-B

Copies of the referenced standards may be obtained from the Telecommunications Industry (TIA), 1320 North Courthouse Road, Suite 890, Arlington, VA 22201; (800) 332-6077; standards@tiaonline.org; https://store.accuristech.com/tia. TIA 1083-B Telecommunications—Communications Products —Handset Magnetic Measurement Procedures and Performance Requirements, October 2015 (see 709.7.2.2).

* * * * *

F106.5 Defined Terms.

Charging port. The system within an electric vehicle (EV) charger that charges one (1) EV. A charging port may have multiple connectors, but it can only provide power to charge one EV through one connector at a time.

* * * * *

Connector. The device that attaches an EV to a charging port in order to transfer electricity.

* * * * *

Electric Vehicle (EV). A motor vehicle that is either partially or fully powered on electric power received from an external power source. This definition does not include golf carts, electric bicycles, or other micromobility devices.

* * * * *

EV Charger. A device with one or more charging ports and connectors for charging EVs. An EV charger is also called electric vehicle supply equipment (EVSE).

EV Supply Equipment. See EV Charger.

EV Charging Station. The area in the immediate vicinity of a group of EV chargers including the EV chargers, supporting equipment, EV charging space adjacent to the EV chargers, and lanes for vehicle ingress and egress. An EV charging station may be only part of the property on which it is located. An EV charging station may include only one EV charging space.

EV Charging Space. A space to park an EV while charging. An EV charging space may be a marked or an unmarked area adjacent to an EV charger.

* * * * *

ABA Chapter 2: Scoping Requirements

* * * * *

F206.2.1 Site Arrival Points. At least one accessible route shall be provided within the site from accessible parking spaces, accessible EV charging spaces, and accessible passenger loading zones; public streets and sidewalks; and public transportation stops to the accessible building or facility entrance they serve.

Exceptions: 1. Where exceptions for alterations to qualified historic buildings or facilities are permitted by F202.5, no more than one accessible route from a site arrival point to an accessible entrance shall be required.

2. An accessible route shall not be required between site arrival points and the building or facility entrance if the only means of access between them is a vehicular way not providing pedestrian access.

* * * * *

F216.14 EV Charging Spaces. EV charging spaces complying with 507 shall be identified by signs complying with 507.6.

Exceptions: 1. Where a total of four or fewer EV charging spaces, including accessible EV charging spaces are provided on a site, identification of accessible EV charging spaces shall not be required.

2. In residential facilities, where EV charging spaces are assigned to specific residential dwelling units, identification of accessible EV charging spaces shall not be required.

* * * * *

F249 EV Charging Stations.

F249.1 General. Where EV charging stations are provided, EV chargers and EV charging spaces shall be provided in accordance with F249.

Exception: EV charging stations used exclusively for buses, trucks, other delivery vehicles, and law enforcement vehicles, shall not be required to comply with F249.

F249.2 EV Chargers. EV Chargers shall comply with 506.

F249.3 EV Charging Spaces.

F249.3.1 Minimum Number. EV charging spaces complying with 507 shall be provided in accordance with Table F249.3.1 except as required by F249.3.1.1. Where there is more than one EV charging station on a site, the number of EV charging spaces complying with 507 shall be calculated according to the number of EV charging spaces at each charging station. Where there is more than one level of EV charger at an EV charging station, the number of EV charging spaces complying with 507 shall be based on the number of spaces available for each level. Accessible EV charging spaces shall not count toward the minimum number of accessible car and van parking spaces required in a parking facility by F208.2.

Table F249.3.1—EV Charging Spaces
Total number of EV charging spaces provided at an EV charging station | Minimum number of required accessible EV charging spaces
1 to 25 | 1.
26 to 50 | 2.
51 to 75 | 3.
76 to 100 | 4.
101 to 150 | 5.
151 to 200 | 6.
201 to 300 | 7.
301 to 400 | 8.
401 to 500 | 9.
501 to 1000 | 2 percent of total.
1001 and over | 20, plus 1 for each 100, or fraction thereof, over 1000.

F249.3.1.2 Residential Facilities. EV charging spaces serving residential facilities shall comply with F249.3.1.2.

F249.3.1.2.1 EV Charging Spaces for Residents. Where at least one EV charging space is provided for each residential dwelling unit, at least one EV charging space complying with 507 shall be provided for each residential dwelling unit with mobility features required to comply with 809.2 through 809.4.

F249.3.1.2.2 Shared-use EV Charging Spaces for Residents. Where the number of EV charging spaces is fewer than the number of residential dwelling units, then the number of EV charging spaces complying with 507 shall be provided in accordance with Table F249.3.1.

F249.3.1.2.3 EV Charging Spaces for Guests, Employees, and Other Non-Residents. Where EV charging spaces are provided for persons other than residents, EV charging spaces complying with 507 shall be provided in accordance with Table F249.3.1.

F249.3.2 Location. EV charging spaces shall comply with F249.3.2.

F249.3.2.1 General. EV charging spaces complying with 507 that serve a particular building or facility shall be located on the shortest accessible route from the EV charging spaces to an entrance complying with F206.4 relative to other charging spaces at the same EV charging station. Sites with EV charging stations as the primary function shall include accessible routes that connect EV charging spaces complying with 507 to any amenities on the site and, if provided, pedestrian routes in the public way.

Exception: EV Charging spaces complying with 507 shall be permitted to be located at different EV charging stations if substantially equivalent or greater accessibility is provided in terms of distance from an accessible entrance, fees, or user convenience.

F249.3.2.2 Residential Facilities. In residential facilities containing residential dwelling units required to provide mobility features complying with 809.2 through 809.4, EV charging spaces provided in accordance with F249.3.1.2.1 shall be located on the shortest accessible route to the residential dwelling unit entrance they serve relative to other EV charging spaces at the same charging station. EV charging spaces provided in accordance with F249.3.1.2.2 shall be dispersed throughout all types of EV charging stations (e.g., covered, garage, charging level) provided for the residential dwelling units.

Exception: EV charging spaces provided in accordance with F249.3.1.2.2 shall not be required to be dispersed throughout all types of EV charging stations if substantially equivalent or greater accessibility is provided in terms of distance from an accessible entrance, charging level, fees, and user convenience.

5. In appendix D,

a. Amend Chapter 5 by adding sections 506 and 507;

b. Amend Chapter 7 by adding section 709; and

c. Remove the text “ “Referenced Standards” in Chapter 1” everywhere it appears and add, in its place, the text “105 or F105, as applicable”.

The additions read as follows:

Chapter 5—General Site and Building Elements

* * * * *

Appendix D to Part 1191—Technical

506 EV Charger

506.1 Communication Features. EV Charger user interfaces shall have communication features complying with 709, except that 709.3.1 shall apply only to those EV chargers with mobility features complying with 506.2.

506.2 Mobility Features. EV chargers associated with EV charging spaces required to comply with 507 shall comply with 506.2 and 709.3.1.

506.2.1 Clear Floor or Ground Space. EV chargers shall have clear floor or ground space complying with 305 positioned for a parallel approach to the charger and centered on the operable part.

Exception: Where there are multiple operable parts, the clear floor or ground space shall be centered on the EV charger.

506.2.2 Reach Range and Operation. EV Charger controls shall comply with 308.3.1 and 309.4.

506.2.3 EV Charger Cables. EV Charger cables that exceed a weight of 5 pounds (22.2N) shall include a cable management system.

507 EV Charging Spaces

507.1 General. EV charging spaces shall comply with 507. Where EV charging spaces are marked with lines, width measurements of EV charging spaces and access aisles shall be made from the centerline of the markings.

Exception: Where EV charging spaces or access aisles are not adjacent to another EV charging space, access aisle, or parking space, measurements shall be permitted to include the full width of the line defining the EV charging space or access aisle.

507.2 Size of EV Charging Spaces. EV charging spaces shall be 132 inches (3350 mm) wide minimum and 240 inches (6096 mm) long minimum, shall be marked to define the width and length, and shall have an access aisle complying with 507.3.

Exceptions: 1. EV charging spaces located at a pull through EV charging station shall be 192 inches wide minimum and shall not be required to provide an access aisle.

2: EV charging spaces at a pull through EV charging station shall not be required to be marked.

507.3 Access Aisle. Access aisles serving EV charging spaces shall comply with 507.3. Two EV charging spaces, or one parking space and one EV charging space, shall be permitted to share a common access aisle.

507.3.1 EV charging spaces with manual connectors. Access aisles shall adjoin an accessible route to the EV charger serving the EV charging space and, where applicable, an accessible route to the building or facility entrance that they serve, amenities on site, or pedestrian routes in the public way.

507.3.2 EV charging spaces with touchless or automated EV connectors. Access aisles shall adjoin an accessible route to the payment device serving the EV charging space, where applicable, an accessible route to the building or facility entrance that they serve, amenities on site, or pedestrian routes in the public way.

507.3.3 Width. Access aisles serving EV charging spaces shall be 60 inches (1525 mm) wide minimum.

507.3.4 Length. Access aisles shall extend the full length of the EV charging space they serve.

507.3.5 Marking. Access aisles shall be marked so as to discourage parking in them.

507.3.6 Location. Access aisles shall not overlap the vehicular way. Access aisles shall be permitted to be placed on either side of the EV charging space.

507.4 Floor or Ground Surfaces. Floor or ground surfaces of EV charging spaces and access aisles serving them shall comply with 302. Access aisles shall be at the same level as the EV charging spaces they serve. Changes in level are not permitted.

Exceptions: 1. Slopes not steeper than 1:48 shall be permitted.

2. Changes in level created by in-ground connectors are permitted on the EV charging space. In-ground connectors shall not be located in the access aisle.

507.5 Vertical Clearance. EV charging spaces, access aisles, and vehicular routes serving them shall provide a vertical clearance of 98 inches (2490 mm) minimum.

507.6 Identification. EV charging space identification signs shall include the International Symbol of Accessibility complying with 703.7.2.1. Signs shall be 60 inches (1525 mm) minimum above the finish floor or ground surface measured to the bottom of the sign.

507.7 Relationship to Accessible Routes. EV charging spaces and access aisles shall be designed so that vehicles in the space cannot obstruct the required clear width of adjacent accessible routes.

Chapter 7: Communication Elements and Features

* * * * *

709 EV Charger Communication Elements and Features

709.1 General. Where EV chargers have communication features, they shall comply with 709, except that 709.3.1 shall apply only to EV chargers with mobility features complying with 506.2.

709.2 Volume. EV chargers that deliver sound shall provide volume control and output amplification conforming to 709.2.

Exception: EV chargers conforming to 709.7.2 shall not be required to conform to 709.2.

709.2.1 Private Listening. An EV charger that allows for private listening shall provide a mode of operation for controlling the volume.

709.2.2 Non-private Listening. An EV charger that provides non-private listening shall include an incremental volume control with output amplification up to a level of at least 65 dB. A function shall be provided to automatically reset the volume to the default level after every use.

709.3 Display Screen. The display screen shall comply with 709.3

709.3.1 Visibility. The content on the display screen of EV chargers with mobility features complying with 506.2 shall be visible from a point located 40 inches (1015mm) above the center of the clear floor or ground space in front of the EV Charger.

709.3.2 Characters. At least one mode of characters displayed on the screen shall be in a sans serif font. Where an EV charger does not provide a screen enlargement feature, characters shall be 3/16 inch (4.8 mm) high minimum based on the uppercase letter “I”. Characters shall contrast with their background with either light characters on a dark background or dark characters on a light background.

709.3.3 Flashing. There shall be no more than three flashes in any one-second period.

709.4 Status Indicators. Where provided, status indicators shall be discernible visually and by touch or sound.

709.5 Color Coding. Where provided, color coding shall not be used as the only means of conveying information, indicating an action, prompting a response, or distinguishing a visual element.

709.6 Audible Signals. Where provided, audible signals or cues shall not be used as the only means of conveying information, indicating an action, or prompting a response.

709.7 EV Charger with Two-Way Voice Communication.

709.7.1 General. EV chargers that provide two-way voice communication shall conform to 709.7.

709.7.2 Handsets. Where provided, devices designed to be held to the ear shall provide volume gain conforming to 47 CFR 68.317. If the device is corded, the cord shall be 29 inches (735 mm) long minimum.

709.7.2.2 Interference Reduction and Magnetic Coupling. Handsets shall reduce interference with hearing technologies and provide a means for effective magnetic wireless coupling in conformance with to TIA-1083-B (incorporated by reference, see 105 or F105, as applicable).

709.7.3 Video Communication. Where the EV charger provides real-time video functionality, the quality of the video shall be sufficient to support communication using sign language.

709.8 Caption Processing Technologies. Where EV charger displays or processes video with audio, synchronized captioning of the audio shall be provided.

Approved by vote of the Access Board on November 13, 2023.
Christopher Kuczynski,
General Counsel.

[FR Doc. 2024-18820 Filed 8-30-24; 8:45 am]

BILLING CODE 8150-01-P